DEPARTMENT OF TRANSPORTATION

Federal Aviation Administration

Fifth Meeting, Special Committee 214: Standards for Air Traffic Data Communication Services, Working Group 78 (WG-78)

AGENCY: Federal Aviation Administration (FAA), DOT.

ACTION: Notice of RTCA Special Committee 214, Standards for Air Traffic Data Communication Services Working Group 78 (WG-78).

SUMMARY: The FAA is issuing this notice to advise the public of a fifth meeting of RTCA Special Committee 214, Standards for Air Traffic Data Communication Services.

DATES: The meeting will be held September 22-26, 2008 from 9 a.m.-5 p.m.

ADDRESSES: The meeting will be held at Harris Corporation, Capital Gallery Place, 600 Maryland Avenue, SW., Suite 850E, Washington, DC 20024.

SUPPLEMENTARY INFORMATION: Pursuant to section 10(a) (2) of the Federal Advisory Committee Act (Pub. L. 92-463, 5 U.S.C., Appendix 2), notice is hereby given for a Special Committee 214 meeting. The agenda will include:

Meeting Objectives

• Agree the Draft Integrated SPR (including existing services Operational Service Description (OSD), updated Environment Document plus D-OTIS OSD)

• Agree the D-TAXI OSD

• Agree the D-FIS (D-OTIS based) Operational Safety Assessment (OSA) for Integration in the SPR

• Progress CPDLC (ACL, ACM, AMC, DUG, DCL based) OSA

• Agree the Operational Performance Assessment (OPA) approach

• Progress the ATN, FANS and A623 Interoperability Standards

• Reach a consensus on the scope and timescales for the work remaining.

Note: The term “Agree” in the objectives above means that the document is on track with no major changes expected. It does not mean formal approval by the Plenary.

• September 22:

Monday—Morning

• Welcome, Review Status and Needs (aka Tutorials), Approval of Agenda, Approval of the Minutes of Plenary 4, RTCA Paper No. 163-08/SC214-014

• Review of the work so far

• Approval of the updated SC-214/WG-78 Operating Procedures (ref. POSPL Operating Procedures)

• SC0124/WG-78 Work Plan and TORs.

• SC-206/WG-76 Coordination

• CPDLC for ATSA-ITP Standards Approach

Monday—Afternoon

• Subgroup Reports and Action Item Responses—SG-1, SG-2 and SG-3.

• Documents Agreement:

• D-FIS (D-OTIS) Safety Assessment (ref. DFIS-OSA)

• September 23: Subgroup Working Sessions

Tuesday—Morning and Afternoon

• Subgroups Activity: Subgroups General, SG-1, SG-2 and SG-3

• September 24: Subgroup Working Sessions

Wednesday—Morning and Afternoon

• Subgroups Activity: Subgroups General, SG-1, SG-2 and SG-3

• September 24: Subgroup Working Sessions

Thursday—Morning and Afternoon

• Subgroups Activity: Subgroups General, SG-1, SG-2 and SG-3

• September 25: Subgroup Working Sessions

Friday—Morning

• Subgroup Reports

• General

• SG-1

• SG-2

• SG-3

• OPA Approach: Presentation and Agreement

• Document Agreements:

• Integrated Draft SPR (including existing services OSD, updated

Environment Documents plus D-OTIS OSD)

• D-TAXI OSD

• Review Committee Plan—Master Schedule—Terms of Reference

• Closing Session (Next Meeting Dates, Location and Agenda for Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 2, 2008.
Francisco C. Estrada,
RTCA Advisory Committee.

[FR Doc. E8-21186 Filed 9-11-08; 8:45 am]

BILLING CODE 4910-13-M